NATIONAL TRANSPORTATION SAFETY BOARD

Sunshine Act Meeting

Agenda

Time and Date: 9:30 a.m., July 14, 2009.

Place: NTSB Conference Center, 429 L'Enfant Plaza SW., Washington, DC 20594.

Status: The one item is open to the public.

Matter to be Considered: 8126 Railroad Accident Report—Collision Between Two Massachusetts Bay Transportation Authority Green Line Trains, Newton, Massachusetts, May 28, 2008.

News Media Contact: Telephone: (202) 314-6100.

The press and public may enter the NTSB Conference Center one hour prior to the meeting for set up and seating.

Individuals requesting specific accommodations should contact Rochelle Hall at (202) 314-6305 by Friday, July 10, 2009.

The public may view the meeting via a live or archived webcast by accessing a link under “News & Events” on the NTSB home page at http://www.ntsb.gov.

FOR MORE INFORMATION CONTACT: Candi Bing, (202) 314-6403.

Dated: Thursday, July 2, 2009.
Candi R. Bing,
Alternate Federal Register Liaison Officer.

[FR Doc. E9-16046 Filed 7-2-09; 4:15 pm]

BILLING CODE 7533-01-P